ENVIRONMENTAL PROTECTION AGENCY

[FRL-7610-2]

Draft Toxicological Review of Toluene: In Support of Summary Information on the Integrated Risk Information System (IRIS)

AGENCY: Environmental Protection Agency.

ACTION: Notice of external peer-review panel meeting.

SUMMARY: The U.S. Environmental Protection Agency (EPA) is announcing an external peer-review panel meeting to review the external review draft document entitled, “Toxicological Review of Toluene: In Support of Summary Information on the Integrated Risk Information System (IRIS)” (NCEA-S-1264). The document was prepared by EPA's National Center for Environmental Assessment (NCEA) of the Office of Research and Development. EPA will use comments and recommendations from the expert panel meeting to finalize the draft document.

DATES: The peer-review panel meeting will begin on February 5, 2004, at 8:30 a.m. and end at 5 p.m. Members of the public may attend as observers.

ADDRESSES: The external peer-review panel meeting will be held at the Jurys Washington Hotel, 1500 New Hampshire Ave., NW., Washington, DC. Under an Interagency Agreement with EPA and the Department of Energy, the Oak Ridge Institute of Science and Education (ORISE) is organizing, convening, and conducting the peer-review panel meeting. To attend the meeting, register by January 23, 2004, by calling ORISE, PO Box 117, MS 17, Oak Ridge, TN 37831-0117, at (865) 241-5784 or (865) 241-3168 (facsimile). Interested parties may also register on-line at: ShapardL@orau.gov. Space is limited, and reservations will be accepted on a first-come, first-served basis.

A limited number of paper copies are available by contacting the IRIS Hotline at (202) 566-1676 or (202) 566-1749 (facsimile). If you are requesting a paper copy, please provide your name, mailing address, and the document title and number, “Draft Toxicological Review of Toluene: In Support of Summary Information on the Integrated Risk Information System (IRIS)” (NCEA-S-1264). Copies are not available from ORISE.

FOR FURTHER INFORMATION CONTACT: Questions regarding registration and logistics should be directed to Leslie Shapard, ORISE, PO Box 117, MS 17, Oak Ridge, TN 37831-0117, at 865-241-5784 (telephone), (865) 241-3168 (facsimile), ShapardL@orau.gov (email).

If you have questions about the document, contact Lynn Flowers, IRIS Staff, National Center for Environmental Assessment, 1200 Pennsylvania Avenue, NW., Washington, DC 20460; telephone: (202) 564-1537; facsimile: (202) 565-0075; e-mail: flowers.lynn@epa.gov.

SUPPLEMENTARY INFORMATION: The draft report is a reassessment of the chronic health effects of toluene which was first entered into the IRIS data base in 1987. The report provides the scientific basis for deriving an oral reference dose (RfD) and inhalation reference concentration (RfC) for the noncancer health risk from exposure to toluene. A cancer assessment is also included in the draft report.

IRIS is a data base that contains scientific Agency consensus positions on potential adverse human health effects that may result from chronic (or lifetime) exposure to specific chemical substances found in the environment. The data base (available on the Internet at http://www.epa.gov/iris) contains qualitative and quantitative health effects information for more than 500 chemical substances that may be used to support the first two steps (hazard identification and dose-response evaluation) of the risk assessment process. When supported by available data, the data base provides RfDs and RfCs for chronic health effects, and oral slope factors and inhalation unit risks for carcinogenic effects. Combined with specific exposure information, government and private entities use IRIS to help characterize public health risks of chemical substances in a site-specific situation and thereby support risk management decisions designed to protect public health.

Toluene (CASRN 108-88-3) or methylbenzene is used as a gasoline additive to increase octane ratings, in benzene production, and as a solvent in paints, coatings, inks, adhesives, and cleaners. Toluene is also used in the production of nylon, plastics and polyurethanes. Toluene is released to the environment, mostly into the atmosphere during the production, transport, and use of gasoline. Toluene has been detected in drinking water supplies, particularly in locations near leaking underground storage tanks containing fuel products. Toluene has also been detected in soil and water at or near certain hazardous waste sites and in smoke from wood and cigarettes.

EPA has established an official public docket for this action under Docket ID No. ORD-2003-0015. The official public docket consists of the document referenced in this notice and a list of charge questions that have been submitted to the external peer reviewers. Both documents are available on the Internet at http://www.epa.gov/edocket/. Once in the system, select “search,” then key in the appropriate docket identification number.

Although a part of the official docket, the public docket does not include Confidential Business Information (CBI) or other information whose disclosure is restricted by statute.

Dated: January 7, 2004.
Peter W. Preuss,
Director, National Center for Environmental Assessment.

[FR Doc. 04-895 Filed 1-14-04; 8:45 am]

BILLING CODE 6560-50-P